FEDERAL RETIREMENT THRIFT INVESTMENT BOARD

Sunshine Act Meeting Notice

TIME AND DATE: 10 a.m. (EST); December 18, 2006.

PLACE: 4th Floor Conference Room, 1250 H Street, NW., Washington, DC.

STATUS: Open.

MATTERS TO BE CONSIDERED: 1. Approval of the minutes of the November 20, 2006 Board member meeting.

2. Thrift Savings Plan activity report by the Executive Director.

a. Monthly Performance Report.

b. Monthly Investment Report.

c. Legislative Report.

3. Participant Survey Update.

CONTACT PERSON FOR MORE INFORMATION: Thomas J. Trabucco, Director, Office of External Affairs, (202) 942-1640.

Dated: December 7, 2006.
Thomas K. Emswiler,
Secretary to the Board, Federal Retirement Thrift Investment Board.

[FR Doc. 06-9646 Filed 12-7-06; 1:50 pm]

BILLING CODE 6760-01-P